DEPARTMENT OF EDUCATION

Indian Education Formula Grants to Local Educational Agencies

AGENCY: Office of Elementary and Secondary Education, Department of Education.

ACTION: Notice; correction.

SUMMARY: On February 7, 2020, the U.S. Department of Education (Department) published in the Federal Register (85 FR 7298) a notice inviting applications (NIA) for new awards for fiscal year (FY) 2020 for the Indian Education Formula Grants to Local Educational Agencies (Formula Grants) program, Catalog of Federal Domestic Assistance (CFDA) number 84.060A. We are correcting the deadline for transmittal of Part I of Electronic Application System for Indian Education (EASIE) applications and correcting the Formula Grants program contact.

DATES: Deadline for Transmittal of EASIE Part I: March 12, 2020.

FOR FURTHER INFORMATION CONTACT: Dr. Crystal C. Moore, U.S. Department of Education, 400 Maryland Avenue SW, Room 3W236, Washington, DC 20202-5970. Telephone: (202) 453-5593. Email: crystal.moore@ed.gov.

If you use a telecommunications device for the deaf (TDD) or a text telephone (TTY), call the Federal Relay Service, toll free, at 1-800-877-8339.

SUPPLEMENTARY INFORMATION: On February 7, 2020, we published in the Federal Register (85 FR 7298) an NIA for new awards for FY 2020 for the Formula Grants program. In the NIA, we incorrectly stated the deadline for transmittal of Part I of EASIE applications. The correct application deadline date is March 12, 2020. Applicants must submit their applications by 8:00 p.m., Eastern Time, on such date. Additionally, we are correcting the program contact to: Dr. Crystal C. Moore, U.S. Department of Education, 400 Maryland Avenue SW, Room 3W236, Washington, DC 20202-6335. Telephone: (202) 453-5593. Email: crystal.moore@ed.gov.

All other requirements and conditions stated in the NIA remain the same.

Corrections

In FR Document 2020-02476 appearing on page 7298 in the Federal Register on February 7, 2020, the following corrections are made:

1. On page 7299, in the left column, under DATES, we are revising the date following “Deadline for Transmittal of EASIE Part I” to: March 12, 2020.

2. On page 7299, in the left column, under FOR FURTHER INFORMATION CONTACT, we are revising the contact for questions about the Formula Grants program to: “Dr. Crystal C. Moore, U.S. Department of Education, 400 Maryland Avenue SW, Room 3W236, Washington, DC 20202-6335. Telephone: (202) 453-5593. Email: crystal.moore@ed.gov.”

3. On page 7300, in the left column, under the heading “IV. Application and Submission Information,” in the sixth line of paragraph (a)(i) of section 2 “Content and Form of Application Submission,” we are revising the date to: March 12, 2020.

4. On page 7300, in the middle column, under the heading “IV. Application and Submission Information,” in paragraph (a)(ii) of section 2 “Content and Form of Application Submission,” we are revising the date beginning on the second line of the middle column to: March 12, 2020.

5. On page 7300, under the heading “IV. Application and Submission Information,” in section 3 “Submission Dates and Times,” we are revising the date following “Deadline for Transmittal of EASIE Part I” to: March 12, 2020.

Program Authority: 20 U.S.C. 7421, et seq.

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at: www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: February 26, 2020.
Frank T. Brogan,
Assistant Secretary for Elementary and Secondary Education.

[FR Doc. 2020-04255 Filed 2-28-20; 8:45 am]

BILLING CODE 4000-01-P